DEPARTMENT OF JUSTICE

Notice of Lodging of Consent Decrees Under the Lead-Based Paint Hazard Act

Notice is hereby given that on May 8, 2003, a proposed consent decree in United States v. SK Management Co., Civil Action No. 03-3225 RMT (RCx), and a proposed consent decree in United States v. Westside Rehab Corp., et al., Civil Action No. 03-3226 JFW (SHx), were lodged with the United States District Court for the Central District of California.

The consent decrees settle claims against management agents and owners of several residential apartment buildings principally in southern California, which were brought on behalf of the Department of Housing and Urban Development and the Environmental Protection Agency under the Residential Lead-Based Paint Hazard Reduction Act 42 U.S.C. 4851 et seq. (“Lead Hazard Reduction Act”). The United States alleged in each of its complaints that the defendants failed to provide information to tenants concerning lead-based paint hazards, and failed to disclose to tenants the presence of any known lead-based paint or any known lead-based paint hazards.

Under the Westside consent decree, defendants have agreed to provide the required notice and disclosures, to perform inspections at the buildings for the presence of lead-based paint, and to perform lead-based paint abatement. In addition, the Westside defendants will pay a penalty of $17,500 to the United States and spend $35,000 toward research on the health impacts of lead in the community, particularly children. Under the SK Management decree, the defendant has agreed to provide the required notice and disclosures, to perform inspections at the buildings for the presence of lead-based paint, and to perform lead-based paint abatement. In addition, the SK defendant will pay a penalty of $10,500 to the United States and will spend $25,000 toward services to address the hazards arising from lead-based paint, including services such as blood-lead screenings, clinical consultations, medical surveillance and risk communication, and educational outreach.

The Department of Justice will receive for a period of thirty (30) days from the date of this publication comments relating to the consent decrees. Comments should be addressed to the Assistant Attorney General of the Environment and Natural Resources Division, Department of Justice, PO Box 7611, Washington, DC 20044-7611, and should refer to United States v. Westside Rehab Corp., et al., D.J. #90-5-1-1-07223, or United States v. SK Management Co., D.J. #90-5-1-1-07223/2.

The proposed consent decrees may be examined at the Department of Housing and Urban Development, Office of Healthy Homes and Lead Hazard Control, attention: Tara Jordan, 490 L'Enfant Plaza SW., Room 3206, Washington, DC 20410, (202) 755-1785, ext. 157; at the office of the United States Attorney for the Central District of California, Federal Building Room 7516, 300 North Los Angeles Street, Los Angeles, California 90012, and at U.S. EPA Region 9, 75 Hawthorne Street, San Francisco, California 94105. During the public comment period, the consent decrees may also be examined on the following Department of Justice Web site, http://www.usdoj.gov/enrd/open.html. Copies of the consent decrees may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy please refer to the referenced case and enclose a check in the amount of $8.75 (25 cents per page reproduction costs), payable to the U.S. Treasury for the consent decree in United States v. Westside Rehab Corp., et al., D.J. #90-5-1-1-07223, and $8.25 (25 cents per page reproduction costs), payable to the U.S. Treasury, for the consent decree in United States v. SK Management Co., D.J. #90-5-1-1-07223/2.

Karen Dworkin,
Assistant Chief, Environmental Enforcement Section, Environment and Natural Resources Division.

[FR Doc. 03-13476 Filed 5-29-03; 8:45 am]

BILLING CODE 4410-15-M